ENVIRONMENTAL PROTECTION AGENCY

[EPA-HQ-OAR-2015-0207; FRL 9948-46-OEI]

Information Collection Request Submitted to OMB for Review and Approval; Comment Request; Cellulosic Production Volume Projections and Efficient Producer Reporting

AGENCY: Environmental Protection Agency (EPA).

ACTION: Notice.

SUMMARY: The Environmental Protection Agency has submitted an information collection request (ICR), “Cellulosic Production Volume Projections and Efficient Producer Reporting” (EPA ICR No. 2551.01, OMB Control No. 2060-NEW) to the Office of Management and Budget (OMB) for review and approval in accordance with the Paperwork Reduction Act (44 U.S.C. 3501 et seq.). This is a request for approval of a new collection. Public comments were previously requested via the Federal Register (80 FR 15597) on March 24, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 22, 2016.

ADDRESSES: Submit your comments, referencing Docket ID Number EPA-HQ-OAR-2015-0207, to (1) EPA online using www.regulations.gov (our preferred method), by email to a-and-r-docket@epa.gov, Attention Air and Radiation Docket ID No. EPA-HQ-OAR-2015-0207, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jon Monger, Policy Advisor, Office of Transportation and Air Quality, Mail Code: 6401A, Environmental Protection Agency, 1200 Pennsylvania Ave. NW., Washington, DC 20460; telephone number: 202-564-0628; fax number: 202-564-1177; email address: monger.jon@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA is seeking to collect information from potential cellulosic biofuel producers to aid in determining the annual volume standards. This ICR includes a questionnaire form to facilitate the collection of this information. EPA would also like to use a data form to collect information from certain producers and importers who have requested and been approved to use an “efficient producer” pathway. This data form would standardize collection of selected data points and allow better and more efficient compliance with the RFS program. We inform respondents that they may assert claims of business confidentiality (CBI) for information they submit in accordance with 40 CFR 2.203.

Form Numbers: RFS Efficient Producer Data Form (RFS2500), RFS Cellulosic Biofuel Producer Questionnaire Form (RFS2700).

Respondents/affected entities: Producers, Importers of Renewable Fuels.

Respondent's obligation to respond: RFS Cellulosic Biofuel Producer Questionnaire Form is voluntary; RFS Efficient Producer Data Form is mandatory pursuant to Sections 114 and 208 of the Clean Air Act (CAA), 42 U.S.C. 7414 and 7542 for producers eligible to generate RINs through an efficient producer pathway pursuant to 40 CFR 80.1416.

Estimated number of respondents: 90 (total).

Frequency of response: Annually (RFS Cellulosic Biofuel Producer Questionnaire Form) or quarterly (RFS Efficient Producer Data Form).

Total estimated burden: 880 hours (per year). Burden is defined at 5 CFR 1320.03(b).

Total estimated cost: $101,920 (per year), includes no annualized capital or operation & maintenance costs.

Changes in the Estimates: There is no previous ICR for this collection.

Courtney Kerwin,
Acting Director, Collection Strategies Division.

[FR Doc. 2016-17285 Filed 7-21-16; 8:45 am]

BILLING CODE 6560-50-P